DEPARTMENT OF ENERGY

Federal Energy Regulatory Commission

[Docket No. ER13-2124-000]

Midcontinent Independent System Operator, Inc.; Supplemental Notice Concerning Post-Technical Conference Comments

As announced in the Notice of Technical Conference issued on October 25, 2013, and as required in the Commission's October 16, 2013 order, Commission staff convened a technical conference in this proceeding on November 19, 2013, at the Federal Energy Regulatory Commission, 888 First Street, NE., Washington, DC, Hearing Room 6.¹ In the course of the discussion therein, Midcontinent Independent System Operator, Inc. (MISO) clarified several aspects of its proposal and suggested certain modifications to its initially proposed revisions to its Open Access Transmission, Energy, and Operating Reserve Markets Tariff (Tariff). MISO offered to file these changes to its Tariff, if so directed by the Commission in a further order in this proceeding. Staff requests that MISO specify any such further Tariff revisions in its post-technical conference comments, and that parties who choose to file post-technical conference comments or reply comments take these potential Tariff revisions into account, and respond to them as appropriate, in the course of formulating their written submissions.

¹ Midcontinent Independent System Operator, Inc., 145 FERC ¶ 61,044 (2013).

Parties wishing to file comments on the matters discussed at the technical conference, and wishing to reply to comments filed by others, should do so on the following schedule:

Comments: Due on or before December 3, 2013.

Reply Comments: Due on or before December 13, 2013.

Dated: November 25, 2013.
Kimberly D. Bose,
Secretary.

[FR Doc. 2013-28827 Filed 12-2-13; 8:45 am]

BILLING CODE 6717-01-P